DEPARTMENT OF THE INTERIOR

Bureau of Land Management

[LLNVE00000 L14300000.ES0000 241A; N-85701; 10-08807; MO#4500012744; TAS: 14X5232]

Notice of Realty Action: Recreation and Public Purposes Act Classification, Elko County, NV

AGENCY: Bureau of Land Management, Interior.

ACTION: Notice of realty action.

SUMMARY: A Recreation and Public Purposes (R&PP) Act application for lease and/or conveyance of approximately 807.5 acres of public land in Elko County, Nevada, has been filed with the Bureau of Land Management (BLM) by the City of Elko (City). The City proposes to use the land for a waste water reclamation facility. The BLM proposes to classify the lands as suitable for lease and/or conveyance, as specified below.

DATES: Interested parties may submit written comments regarding the proposed conveyance or classification of the lands until August 5, 2010.

ADDRESSES: Mail written comments to the BLM Field Manager, Tuscarora Field Office, 3900 East Idaho Street, Elko, Nevada 89801.

FOR FURTHER INFORMATION CONTACT: Deb McFarlane, (775) 753-0223, or e-mail: deb_mcfarlane@blm.gov. An environmental assessment of the proposal is available at the BLM Web site: http://www.blm.gov/nv/st/en/fo/elko_field_office.html.

SUPPLEMENTARY INFORMATION: In accordance with Section 7 of the Taylor Grazing Act (43 U.S.C. 315f), and Executive Order No. 6910, the following described public land in Elko County, Nevada, has been examined and found suitable for classification and lease and/or conveyance under the provisions of the R&PP Act, as amended, (43 U.S.C. 869 et seq.):

Mount Diablo Meridian

T. 33 N., R. 55 E.,

Sec. 5, lots 6, 7, 9 to 12, inclusive, 26 to 30, inclusive, 32, 34, and 43;

Sec. 6, lots 16, 17, 24, and 26.

T. 34 N., R. 55 E.,

Sec. 29, lots 1 to 4, inclusive, SE¼, SE¼NE¼, and SE¼SW¼;

Sec. 32, SW¼NW¼, W½SW¼, NE¼NW¼NW¼, and S½NW¼NW¼.

The area described contains 807.5 acres, more or less in Elko County.

The R&PP Act and its implementing regulations include an annual limitation of 640 acres on conveyances of public lands for any public purpose to a state or agency or instrumentality of such state for any one of its programs (43 U.S.C. 869; 43 CFR 2741(c)). The City has submitted a plan of development for approximately 807.5 acres as part of its application under the R&PP Act and for the phased expansion of an existing wastewater treatment plant. Each construction phase is planned to take place in support of the overall plan for the water reclamation facility to be located in this one area. Therefore, the BLM proposes to convey these public lands on a phased basis, through several transactions. The BLM proposes to classify 529.8 of these acres as suitable for conveyance pursuant to the 1988 Amendments to the R&PP Act, in order that they may be patented without retention of a reversionary interest by the United States. The BLM proposes to classify the remaining acreage as suitable for lease and/or conveyance under the R&PP Act. During the notice period, the BLM proposes to initially lease the remaining acreage subject to the continuation of existing grazing afforded to holders of grazing permits on the public land, and subject to the requirement that no construction or other activities that may either (1) interfere with the permitted grazing or (2) constitute any purpose which the BLM authorized officer finds may include the disposal, placement, or release of any hazardous substance on such public lands, take place on the leased lands, until such time as the City is prepared to commence construction of the next phase of the water reclamation project, but no sooner than the end of the 2-year notice period (unless such notice is waived by the grazing permittee). At such time as the City is prepared to proceed, the BLM proposes to convey the leased land under the authority of the 1988 Amendments to the R&PP Act, and the regulations at 43 CFR 2743, without retention of a reversionary interest by the United States.

Additional detailed information pertaining to this application, plan of development, and site plans is in case file N-85701 located in the BLM Elko District Office.

The land is not needed for any Federal purpose. Both the proposed conveyance of the 529.8 acres, and the proposed lease and eventual conveyance are consistent with the BLM Elko Resource Management Plan, dated March 11, 1987, and would be in the public interest. The lease and/or as applicable, the patents for both sets of acreages, when issued, will be subject to the provisions of the R&PP Act, as amended, and applicable regulations of the Secretary of the Interior, including, but not limited to, and especially with respect to the patents, when issued, 43 CFR Subpart 2743, and will contain the following terms, conditions and reservations:

1. A right-of-way thereon reserved to the United States for ditches or canals constructed by the authority of the United States, Act of August 30, 1890 (43 U.S.C. 945);

2. All minerals are reserved to the United States, together with the right to prospect for, mine, and remove such deposits from the same under applicable law and such regulations as the Secretary of the Interior may prescribe, including all necessary access and exit rights;

3. Valid existing rights;

4. Right-of-way N-42787 for fiber optic cable purposes granted to Sprint Communications Company, its successors and assigns, pursuant to the Act of October 21, 1976 (43 U.S.C. 1761);

5. Rights-of-way N-43924 and N-62432 for power line purposes granted to Sierra Pacific Power Company, its successors and assigns, pursuant to the Act of October 21, 1976 (43 U.S.C. 1761);

6. Right-of-way N-46213 for road purposes granted to Elko County, its successors and assigns, pursuant to the Act of October 21, 1976 (43 U.S.C. 1761);

7. Right-of-way N-61260 for telephone line purposes granted to Citizens Communications, its successors and assigns, pursuant to the Act of October 21, 1976 (43 U.S.C. 1761);

8. Right-of-way N-74438 for road purposes granted to William A. Crane, his successors and assigns, pursuant to the Act of October 21, 1976 (43 U.S.C. 1761);

9. Rights of N-77925 for oil and gas lease purposes granted to American Energy Independence Company LLC., pursuant to the Act of December 22, 1987, (30 U.S.C. 181 et seq.);

10. Rights of N-83385 for oil and gas lease purposes granted to Wolcott LLC., pursuant to the Act of December 22, 1987, (30 U.S.C. 181 et seq.);

11.. Rights of N-86702 for oil and gas development contract purposes granted to Rock Investment Group, pursuant to the Act of February 25, 1920 (30 U.S.C. 181 et seq.); and

12. An appropriate indemnification clause protecting the United States from claims arising out of lessees/patentee's use, occupancy, or operations on the leased/patented lands.

On publication of this notice in the Federal Register, the land described above will be segregated from all other forms of appropriation under the public land laws, including the general mining laws, except for leasing and/or conveyance under the R&PP Act, leasing under the mineral leasing laws, and disposals under the mineral material disposal laws.

Interested parties may submit comments involving the suitability of the land for a waste water treatment facility. Comments on the classification are restricted to whether the land is physically suited for the proposal, whether the use will maximize the future use or uses of the land, whether the use is consistent with local planning and zoning, or if the use is consistent with state and Federal programs.

Interested parties may submit comments regarding the specific use proposed in the application and plan of development, whether the BLM followed proper administrative procedures in reaching the decision to convey under the R&PP Act, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so. Only written comments submitted to the Field Manager, BLM Tuscarora Field Office, will be considered properly filed. Any adverse comments will be reviewed by the BLM Nevada State Director. In the absence of any adverse comments, the decision will become effective on August 20, 2010. The land will not be available for conveyance or lease and eventual conveyance, as applicable, until after the decision becomes effective.

Authority: 43 CFR 2741.5.

David Overcast,
Manager, Tuscarora Field Office.

[FR Doc. 2010-14929 Filed 6-18-10; 8:45 am]

BILLING CODE 4310-HC-P